Title 3—

The President

Proclamation 7278 of February 29, 2000

American Red Cross Month, 2000

By the President of the United States of America

A Proclamation

After the great San Francisco earthquake of 1906, President Theodore Roosevelt asked his fellow Americans to respond by contributing to the American Red Cross, “the only organization chartered and authorized by Congress to act at times of great national calamity.” Almost a century later, the American Red Cross continues to serve our Nation and the world, providing compassionate assistance to people suffering in the aftermath of personal, local, national, or international disasters.

As one of our country's premier humanitarian organizations, the Red Cross provides disaster relief to millions of people both at home and abroad. In the past year alone, the American Red Cross rose to meet many challenges—from Hurricane Floyd on the eastern seaboard to the Kosovo relief effort to the terrible earthquakes and floods that struck countries around the globe. Following the tragic shootings at Columbine High School and in other schools and places of work and worship, the American Red Cross sent in crisis counselors to support grieving families and friends of the victims. In Taiwan and in Turkey, the American Red Cross worked with other Red Cross affiliates to provide solace and support to earthquake survivors; after the crash of EgyptAir Flight 990, Red Cross grief counselors brought comfort to victims' families. In total, the American Red Cross responded to nearly 64,000 disaster incidents last year alone and helped provide information to thousands of families separated from loved ones by war or disaster.

The services that the American Red Cross provides go beyond disaster relief. Its biomedical services program provides patients in more than 3,000 hospitals nationwide with the latest in high-quality, state-of-the-art blood and tissue services. Last year it provided more than 700,000 emergency and personal services for military personnel and their families, including relaying messages from their families to the three American servicemen held captive by Yugoslav forces. And in communities across the Nation, more than 12 million people received Red Cross instruction in lifesaving techniques last year, ranging from first aid and CPR to water safety and boat handling.

Forming the backbone of the American Red Cross is a vast network of nearly 4.5 million blood donors and 1.3 million dedicated volunteers who ensure that help will be there when and where it is needed. Virtually every community in the United States is served by an American Red Cross chapter, Blood Services region, or both; and as we have seen demonstrated so dramatically over time, no community is immune to the sudden and devastating disasters that require the services and stewardship of the American Red Cross. Each of us owes a lasting debt of gratitude to this extraordinary organization that has given so much to our people, our country, and our world.

NOW, THEREFORE, I, WILLIAM J. CLINTON, President of the United States of America and Honorary Chairman of the American Red Cross, by virtue of the authority vested in me by the Constitution and laws of the United States, do hereby proclaim March 2000 as American Red Cross Month. I urge all the people of the United States to demonstrate support for their local Red Cross chapters and to become actively involved in furthering the humanitarian mission of the American Red Cross.

IN WITNESS WHEREOF, I have hereunto set my hand this twenty-ninth day of February, in the year of our Lord two thousand, and of the Independence of the United States of America the two hundred and twenty-fourth.

[FR Doc. 00-5393

Filed 3-2-00; 8:45 am]

Billing code 3195-01-P